NATIONAL AERONAUTICS AND SPACE ADMINISTRATION

[Notice: 23-055]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for the purpose of soliciting, from the aeronautics community and other persons, research, and technical information relevant to program planning.

DATES: Tuesday, June 6, 2023, 10:15 a.m.-4:30 p.m., Eastern Time.

ADDRESSES: Meeting will be virtual for the public.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be available to the public online via MS Teams. Dial-in audio teleconference and webcast details to watch the meeting remotely will be available on the NASA Advisory Council Aeronautics Committee website at: https://www.nasa.gov/aeroresearch/aero-nac-committee. Enter as a guest and type your name and affiliation. Note: If dialing in, please “mute” your telephone. The agenda for the meeting includes the following topics:

—Future of Flight

—Future of Vehicle Technology Development

—NASA Support to Certification

It is imperative that the meeting be held on these dates to the scheduling priorities of the key participants.

Patricia Rausch,
Advisory Committee Management Officer, National Aeronautics and Space Administration.

[FR Doc. 2023-10856 Filed 5-19-23; 8:45 am]

BILLING CODE 7510-13-P